DEPARTMENT OF ENERGY

Federal Energy Regulatory Commission

[Docket No. RP03-298-000]

Great Lakes Gas Transmission Limited Partnership; Notice of Request for Emergency Waiver

March 7, 2003.

Take notice that on March 6, 2003, Great Lakes Gas Transmission Limited Partnership (Great Lakes) filed a request for emergency waiver of its tariff to be effective during the curtailment period resulting from a recent force majeure event on Great Lakes' system. Great Lakes declared force majeure on its system because of a major failure on one of its compressor units located at a Shelvin, Minnesota compressor station. The event resulted in curtailment of firm transportation service offered under Great Lakes' FERC Gas Tariff.

Great Lakes states that it provides firm transportation to shippers some of which serve communities and industrial customers that have no other natural gas pipeline facilities accessing their areas (sole source customers) and that curtailment of these customers could potentially result in adverse consequences to these shippers.

Great Lakes states that under section 11.4 of the general terms and conditions of its Tariff, all Category A firm shippers are curtailed equally pro-rata based upon scheduled nominations. Great Lakes states further that its Tariff does not address service to a shipper serving a sole source customer except insofar as that shipper meets the definitions for Category A.

Great Lakes states that the requested waiver will permit Great Lakes to ensure service to those communities and industrial customers whose supply must be delivered by means of Great Lakes' facilities and that the waiver will have a de minimus impact on the remaining shippers whose capacity is affected by the force majeure event and whose capacity is curtailed.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Comment Date: March 14, 2003.

Magalie R. Salas,
Secretary.

[FR Doc. 03-6005 Filed 3-12-03; 8:45 am]

BILLING CODE 6717-01-P